DEPARTMENT OF THE INTERIOR

Fish and Wildlife Service

[FWS-R5-R-2010-N020; BAC-4311-K9 S3]

John Heinz National Wildlife Refuge at Tinicum, Philadelphia and Delaware Counties, PA

AGENCY: Fish and Wildlife Service, Interior.

ACTION: Notice of intent to prepare a comprehensive conservation plan and environmental assessment; request for comments.

SUMMARY: We, the U.S. Fish and Wildlife Service (Service), intend to prepare a comprehensive conservation plan (CCP) and environmental assessment (EA) for John Heinz National Wildlife Refuge (NWR) at Tinicum in Philadelphia, Pennsylvania. We provide this notice in compliance with our CCP policy to advise other Federal and State agencies, Tribal Governments, and the public of our intentions, and to obtain suggestions and information on the scope of issues to consider in the planning process. We are also announcing public meetings and requesting public comments.

DATES: To ensure consideration, please send your written comments by June 11, 2010. We will announce opportunities for public input in local news media throughout the CCP process.

ADDRESSES: Send your comments or requests for more information by any of the following methods:

Electronic Mail: northeastplanning@fws.gov. Include “John Heinz NWR CCP” in the subject line of the message.

Facsimile: Attention: Nancy McGarigal, 413-253-8468.

U.S. Mail: U.S. Fish and Wildlife Service, 300 Westgate Center Drive, Hadley, MA 01035.

In-Person Drop-off. You may drop off comments during regular business hours at John Heinz NWR at Tinicum, 8601 Lindbergh Blvd., Philadelphia, PA 19153.

FOR FURTHER INFORMATION CONTACT: Gary Stolz, Refuge Manager, John Heinz NWR at Tinicum, 8601 Lindbergh Blvd., Philadelphia, PA 19153; phone: (215) 365-3118; electronic mail: gary_stolz©fws.gov.

SUPPLEMENTARY INFORMATION:

Introduction

With this notice, we initiate our process for developing a CCP for John Heinz NWR at Tinicum, in Philadelphia and Delaware Counties, Pennsylvania. This notice complies with our CCP policy to (1) advise other Federal and State agencies, Tribal Governments, and the public of our intention to conduct detailed planning on this refuge, and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing to the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS, and to determine how the public can use each refuge. The planning process is a way for us and the public to evaluate management goals and objectives that will ensure the best possible approach to wildlife, plant, and habitat conservation, while providing for wildlife-dependent recreation opportunities that are compatible with each refuge's establishing purposes and the mission of the NWRS.

Our CCP process provides participation opportunities for Tribal, State, and local governments, conservation organizations, and the public. At this time, we encourage input in the form of issues, concerns, ideas, and suggestions for the future management of John Heinz NWR.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

John Heinz NWR

Under legislation passed by Congress in 1972, authorization was given to the Secretary of the Interior to acquire 1,200 acres to preserve Tinicum Marsh and establish a “Tinicum National Environmental Center.” The Congressional mandate set forth for the refuge was to preserve, restore, and enhance habitat; provide opportunities for the public to study wildlife in its natural habitat; and to promote environmental education. In November 1991, in a bill sponsored by Congressman Curt Weldon (R-PA), the name of the refuge was changed to John Heinz National Wildlife Refuge at Tinicum to honor the late Senator who helped preserve Tinicum Marsh.

The refuge protects five varied habitats: Freshwater tidal marsh, impounded water, woods, meadow, and field. The 200 acres of freshwater tidal marsh represents approximately 80 percent of Pennsylvania's remaining coastal wetlands. The refuge is an important stopover for migratory birds along the Atlantic Flyway, and provides breeding habitat for several State-listed threatened and endangered species. It has over 10 miles of trails, and visitors can actually pass through, or by, most of the habitats using these trails.

John Heinz NWR is the most urban refuge managed by the Service. Over 100,000 visitors come to the refuge each year, and the refuge's urban setting provides unique opportunities for public education and involvement. To better address these opportunities and promote environmental education, the refuge completed construction on the Cusano Environmental Education Center in 2001.

The mission of the Cusano Environmental Education Center is to demonstrate, within an urban setting, the importance of the natural world to the quality of human life and to inspire visitors to become responsible stewards of the environment.

Scoping: Preliminary Issues, Concerns, and Opportunities. The planning team has identified some preliminary issues, concerns, and opportunities to address in the CCP. We list below the categories for issues we have identified. During public scoping, we expect additional issues may be raised.

(1) Ecoregional or ecosystemwide issues, such as climate change, regional land conservation, and protection of water quality throughout the Delaware River estuary;

(2) Biological program issues, such as habitat and species management needs, protection, restoration, monitoring, inventories, and research;

(3) Public use program issues, such as the breadth and quality of programs, public access, user conflicts, and use impacts on natural resources;

(4) Infrastructure and staffing issues, such as appropriateness of facilities, safety, accessibility, and additional staffing needs;

(5) Community relations and outreach issues and opportunities, such as tourism, and local economic impacts; and

(6) Coordination and communication issues and opportunities with other environmental educators, and Federal, State, and Tribal Governments, and with non-governmental conservation partners.

Public Meetings

We will give the public an opportunity to provide input at a public meeting. You can obtain the schedule from the refuge manager (see FOR FURTHER INFORMATION CONTACT). You may also send comments anytime during the planning process by mail, electronic mail, or facsimile (see ADDRESSES). There will be additional opportunities to provide public input once we have prepared a draft CCP.

Public Availability of Comments

Before including your address, phone number, electronic mail address, or other personal identifying information in your comment, you should be aware that your entire comment—including your personal identifying information—may be made publicly available at any time. While you can ask us in your comment to withhold your personal identifying information from public review, we cannot guarantee that we will be able to do so.

Dated: March 29, 2010.
Richard O. Bennett,
Acting Regional Director, Northeast Region, U.S. Fish and Wildlife Service, Hadley, MA 01035.

[FR Doc. 2010-10819 Filed 5-6-10; 8:45 am]

BILLING CODE 4310-55-M